DEPARTMENT OF ENERGY

Federal Energy Regulatory Commission

Combined Notice of Filings #1

Take notice that the Commission received the following electric rate filings:

Docket Numbers: ER15-705-008.

Applicants: Pacific Gas and Electric Company.

Description: Compliance filing: Compliance filing CCSF IA and TFAs Following Order on Compliance (TO SA 284) to be effective 7/23/2015.

Filed Date: 3/30/21.

Accession Number: 20210330-5158.

Comments Due: 5 p.m. ET 4/20/21.

Docket Numbers: ER15-705-009.

Applicants: Pacific Gas and Electric Company.

Description: Compliance filing: Compliance filing CCSF IA and TFAs Following Order on Compliance (TO SA 284) to be effective 7/1/2015.

Filed Date: 3/30/21.

Accession Number: 20210330-5159.

Comments Due: 5 p.m. ET 4/20/21.

Docket Numbers: ER15-2013-010; ER12-2510-009; ER15-2014-005; ER10-2435-016; ER10-2440-012; ER10-2442-014; ER12-2512-009; ER19-481-002; ER15-2018-005; ER18-2252-001; ER10-3286-013; ER15-2022-005; ER10-3299-012; ER10-2444-016; ER10-2446-012; ER15-2026-005; ER15-2020-008; ER10-2449-014; ER19-2250-002.

Applicants: Talen Energy Marketing, LLC, Brandon Shores LLC, Brunner Island, LLC, Camden Plant Holding, L.L.C., Dartmouth Power Associates Limited Partnership, Elmwood Park Power, LLC, H.A. Wagner LLC, LMBE Project Company LLC, Martins Creek, LLC, MC Project Company LLC, Millennium Power Partners, LP, Montour, LLC, New Athens Generating Company, LLC, Newark Bay Cogeneration Partnership, L.P, Pedricktown Cogeneration Company LP, Susquehanna Nuclear, LLC, Talen Montana, LLC, York Generation Company LLC, TrailStone Energy Marketing, LLC.

Description: Supplement to April 27, 2020 Notification of Change in Status of the Indicated MBR Sellers.

Filed Date: 3/29/21.

Accession Number: 20210329-5273.

Comments Due: 5 p.m. ET 4/19/21.

Docket Numbers: ER21-772-000.

Applicants: Resi Station, LLC.

Description: Response to February 24, 2021 Deficiency Letter of Resi Station, LLC.

Filed Date: 3/26/21.

Accession Number: 20210326-5228.

Comments Due: 5 p.m. ET 4/16/21.

Docket Numbers: ER21-787-001

Applicants: ISO New England Inc.

Description: Tariff Amendment: ISO New England Inc.; Response to Commission Deficiency Notice; ER21-787-000 to be effective 5/29/2021.

Filed Date: 3/30/21.

Accession Number: 20210330-5269.

Comments Due: 5 p.m. ET 4/20/21.

Docket Numbers: ER21-1553-000.

Applicants: Luna Storage, LLC.

Description: § 205(d) Rate Filing: Luna Storage, LLC MISA Certificate of Concurrence to be effective 3/31/2021.

Filed Date: 3/30/21.

Accession Number: 20210330-5002.

Comments Due: 5 p.m. ET 4/20/21.

Docket Numbers: ER21-1554-000.

Applicants: Luna Storage, LLC.

Description: § 205(d) Rate Filing: Luna Storage, LLC LGIA Certificate of Concurrence to be effective 3/31/2021.

Filed Date: 3/30/21.

Accession Number: 20210330-5003.

Comments Due: 5 p.m. ET 4/20/21.

Docket Numbers: ER21-1555-000.

Applicants: New Mexico Wind, LLC.

Description: Baseline eTariff Filing: Reactive Power Compensation Filing to be effective 3/31/2021.

Filed Date: 3/30/21.

Accession Number: 20210330-5004.

Comments Due: 5 p.m. ET 4/20/21.

Docket Numbers: ER21-1556-000.

Applicants: TGE Pennsylvania 202, LLC, TGE Pennsylvania 203, LLC.

Description: Petition for Waiver, et al. of TGE Pennsylvania 202, LLC, et al.

Filed Date: 3/29/21.

Accession Number: 20210329-5316.

Comments Due: 5 p.m. ET 4/8/21.

Docket Numbers: ER21-1557-000.

Applicants: Leeward Renewable Energy, LLC.

Description: Petition for Limited Waiver, et al. of Leeward Renewable Energy, LLC.

Filed Date: 3/29/21.

Accession Number: 20210329-5317.

Comments Due: 5 p.m. ET 4/8/21.

Docket Numbers: ER21-1558-000.

Applicants: Southwest Power Pool, Inc.

Description: § 205(d) Rate Filing: 1276R23 Evergy Metro NITSA NOA to be effective 3/1/2021.

Filed Date: 3/30/21.

Accession Number: 20210330-5118.

Comments Due: 5 p.m. ET 4/20/21.

Docket Numbers: ER21-1559-000.

Applicants: Duke Energy Indiana, LLC.

Description: § 205(d) Rate Filing: DEI—Revisions to FERC Electric Tariff Volume No. 10, Reactive Tariff to be effective 6/1/2021.

Filed Date: 3/30/21.

Accession Number: 20210330-5194.

Comments Due: 5 p.m. ET 4/20/21.

Docket Numbers: ER21-1560-000.

Applicants: Midcontinent Independent System Operator, Inc.

Description: § 205(d) Rate Filing: 2021-03-30_SA 2294 ATC-DTE Garden Wind Farm 5th Rev GIA (J060 J061 J557 J928) to be effective 3/11/2021.

Filed Date: 3/30/21.

Accession Number: 20210330-5195.

Comments Due: 5 p.m. ET 4/20/21.

Docket Numbers: ER21-1561-000.

Applicants: Duke Energy Florida, LLC.

Description: § 205(d) Rate Filing: Revised DEF Rate Schedule No. 226 (Seminole Electric Cooperative, Inc.) (Second) to be effective 6/1/2021.

Filed Date: 3/30/21.

Accession Number: 20210330-5268.

Comments Due: 5 p.m. ET 4/20/21.

Take notice that the Commission received the following PURPA 210(m)(3) filings:

Docket Numbers: QM21-13-000.

Applicants: Upper Peninsula Power Company.

Description: Application of Upper Peninsula Power Company to Terminate Mandatory Purchase Obligation under the Public Utility Regulatory Policies Act of 1978.

Filed Date: 3/26/21.

Accession Number: 20210326-5284.

Comments Due: 5 p.m. ET 4/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2021.
Nathaniel J. Davis, Sr.,
Deputy Secretary.

[FR Doc. 2021-07007 Filed 4-5-21; 8:45 am]

BILLING CODE 6717-01-P